DEPARTMENT OF DEFENSE

Office of the Secretary

Notice of Cancellation for the July 7-8, 2005 Meeting of the Independent Review Panel To Study the Relationships Between Military Department General Counsels and Judge Advocates General

AGENCY: Department of Defense.

ACTION: Notice; Cancellation for the July 7-8, 2005 Meeting of the Independent Review Panel to Study the Relationships between Military Department General Counsels and Judge Advocates General.

SUMMARY: The Department of Defense published a document in the Federal Register on June 23, 2005, concerning a meeting on July 7-8, 2005 of the Independent Review Panel to Study the Relationships between Military Department General Counsels and Judge Advocates General. The Panel has decided to cancel the meetings scheduled for July 7 and 8.

DATES: July 7-8, 2005; 8:30 a.m.-11:30 a.m., and 1 p.m.-4 p.m. (Cancelled).

Location: Hilton Crystal City, 2399 Jefferson Davis Highway, Arlington, Virginia 22202 (Cancelled).

FOR FURTHER INFORMATION CONTACT: Any member of the public wishing further information concerning this notice or wishing to submit written comments may contact: Mr. James R. Schwenk, Designated Federal Official, Department of Defense Office of the General Counsel, 1600 Defense Pentagon, Arlington, Virginia 20301-1600, Telephone: (703) 697-9343, Fax: (703) 693-7616, schwenkj@dodgc.osd.mil.

Jeannette Owings-Ballard,
OSD Federal Register Liaison Officer, Department of Defense.

[FR Doc. 05-13197 Filed 7-5-05; 8:45 am]

BILLING CODE 5001-06-P